DEPARTMENT OF COMMERCE

National Institute of Standards and Technology

National Voluntary Laboratory Accreditation Program Workshop for Laboratories Interested in Testing Radiation Detection Instruments for Homeland Security Applications

AGENCY: National Institute of Standards and Technology, Commerce.

ACTION: Notice.

SUMMARY: The National Voluntary Laboratory Accreditation Program (NVLAP) will hold a public workshop on Thursday, January 26, 2006, at the Doubletree Paradise Valley Resort in Scottsdale, Arizona. The purpose of the workshop is to exchange information among NVLAP, laboratories interested in testing radiation detection instruments for Department of Homeland Security applications, and other interested parties. The results of the workshop will be used in the development of the Radiation Detection Instruments Laboratory Accreditation Program. There is no charge for the workshop.

DATES: The workshop is scheduled for Thursday, January 26, 2006.

ADDRESSES: National Voluntary Laboratory Accreditation Program, 100 Bureau Drive/MS 2140, Gaithersburg, MD 20899-2140.

FOR FURTHER INFORMATION CONTACT: Betty Ann Torres, Senior Program Manager, NVLAP, 100 Bureau Drive/MS2140, Gaithersburg, MD 20899-2140, Phone: (301) 975-8446 or e-mail: betty.torres@nist.gov; Charlie Brannon, Physics Laboratory, Phone: (301) 975-3855 or e-mail: charlie.brannon@nist.gov.

Information regarding NVLAP and the accreditation process can be viewed at http://www.nist.gov/nvlap.

SUPPLEMENTARY INFORMATION:

Background

The United States Department of Homeland Security (DHS) has requested that a laboratory accreditation program be established for laboratories that test radiation detection instruments used in homeland security applications. The National Voluntary Laboratory Accreditation Program (NVLAP) is establishing an accreditation program to meet DHS requirements.

NVLAP accreditation criteria are established in accordance with the Code of Federal Regulations (CFR, title 15, Part 285), NVLAP Procedures and General Requirements. Laboratories conducting this testing will be required to meet ISO/IEC International Standard 17025, General Requirements for the Competence of Testing and Calibration Laboratories; the requirements of the ANSI/IEEE N42 series of standards and their corresponding Test and Evaluation Protocols; and any other criteria deemed necessary by the U.S. Department of Homeland Security.

For each new laboratory accreditation program (LAP), NVLAP works with the affected testing community to develop program-specific technical requirements. These requirements tailor the general accreditation criteria referenced in Sections 4 and 5 of NIST Handbook 150 to the tests and services in the new LAP. Program-specific requirements include the details of the Scope of Accreditation, test and measurement equipment, personnel requirements, validation of test methods, and reporting test results.

Dated: January 11, 2006.
Hratch G. Semerjian,
Deputy Director.

[FR Doc. E6-414 Filed 1-13-06; 8:45 am]

BILLING CODE 3510-33-P